DEPARTMENT OF HEALTH AND HUMAN SERVICES

National Institutes of Health

National Cancer Institute; Amended Notice of Meeting

Notice is hereby given of a change in the meeting of the Frederick National Laboratory Advisory Committee to the National Cancer Institute, October 29, 2018, 09:30 a.m. to October 29, 2018, 04:30 p.m., National Cancer Institute Shady Grove, 9609 Medical Center Drive, TE406, Rockville, MD, 20850 which was published in the Federal Register on October 11, 2018, 83 FR 51468.

The meeting notice is amended to change the start and end time of the meeting from 9:30 a.m.-4:30 p.m. to 9:00 a.m.-4:00 p.m. on October 29, 2018. The meeting is open to the public.

Dated: October 17, 2018.
Melanie J. Pantoja,
Program Analyst, Office of Federal Advisory Committee Policy.

[FR Doc. 2018-23070 Filed 10-22-18; 8:45 am]

BILLING CODE 4140-01-P